DEPARTMENT OF ENERGY

Federal Energy Regulatory Commission

[Docket No. ER97-2355-013, et al.]

Southern California Edison Company, et al.; Electric Rate and Corporate Filings

August 19, 2004.

The following filings have been made with the Commission. The filings are listed in ascending order within each docket classification.

1. Southern California Edison Company

[Docket Nos. ER97-2355-013, ER98-1261-005, and ER98-1685-004]

Take notice that, on August 13, 2004, Southern California Edison Company, submitted a compliance filing relating to its wholesale transmission revenue requirement and wholesale transmission rates pursuant to Opinion No. 445 issued July 26, 2000 in Docket No. ER97-2355-000, et al., 92 FERC ¶ 61,070 (July 26, 2000).

SCE states that copies of the filing were served on parties on the official service list in the above-captioned proceeding.

Comment Date: 5 p.m. Eastern Time on September 3, 2004.

2. Pacific Gas and Electric Company

[Docket No. ER03-1091-005]

Take notice that on August 13, 2004, Pacific Gas and Electric Company (PG&E) submitted for filing a compliance filing pursuant to the Commission's order issued June 1, 2004 in Docket No. ER03-1091-000, et al. a revised Generator Special Facilities Agreement. The filing is designated as First Revised Service Agreement No. 42 under PG&E's FERC Electric Tariff, Sixth Revised Volume No. 5.

PG&E states that copies of this filing have been served upon the parties of record in FERC Docket Nos. ER03-1091-004, Duke Energy Morro Bay, LLC, the California Independent System Operator Corporation, and the California Public Utilities Commission.

Comment Date: 5 p.m. Eastern Time on September 3, 2004.

3. Entergy Services, Inc.

[Docket No. ER03-1272-003]

Take notice that, on August 13, 2004, Entergy Services, Inc., on behalf of the Entergy Operating Companies, Entergy Arkansas, Inc., Entergy Gulf States, Inc., Entergy Louisiana, Inc., Entergy Mississippi, Inc., and Entergy New Orleans, Inc. submitted a compliance filing pursuant to the Commission's July 12, 2004 order in Docket No. ER03-1272-002, 108 FERC ¶ 61,046 (2004).

Entergy Services, Inc. states that copies of the filing were served on parties on the official service list in Docket No. ER03-1272-003.

Comment Date: 5 p.m. Eastern Time on September 3, 2004.

4. FirstEnergy Service Company

[Docket No. ER03-1276-002]

Take notice that on August 13, 2004, FirstEnergy Service Company (FirstEnergy) tendered for filing a report showing that certain entities which had previously been transmission service customers of American Transmission Systems, Incorporated had made arrangements to obtain transmission service from the Midwest Independent Transmission System Operator, Inc. FirstEnergy states that its report was made in compliance with an order issued in Docket No. ER03-1276-000 on October 24, 2003, 105 FERC ¶ 61,113 (2003).

Comment Date: 5 p.m. Eastern Time on September 3, 2004.

5. Pacific Gas and Electric Company

[Docket No. ER04-215-001]

Take notice that on August 3, 2004, Pacific Gas and Electric Company (PG&E) submitted a refund report in compliance with Commission's order issued on April 16, 2004 in Docket No. ER04-215-000, 107 FERC ¶ 61,033.

PG&E states that copies of this filing have been served upon the City and County of San Francisco, the California Independent System Operator Corporation, and the California Public Utilities Commission.

Comment Date: 5 p.m. Eastern Time on August 27, 2004.

6. American Electric Power Service Corporation

[Docket No. ER04-499-002]

Take notice that on July 15, 2004, American Electric Power Service Corporation on behalf of the operating companies of the American Electric Power System (collectively AEP) submitted Fifth Revised Service Agreement No. 179 under AEP's FERC Electric Tariff, Third Revised Volume No. 6, a Network Integration Transmission Service Agreement (NITSA) between AEP and American Municipal Power—Ohio, Inc. AEP requests an effective date of January 1, 2004 for the NITSA.

Comment Date: 5 p.m. Eastern Time on August 30, 2004.

7. Wheelabrator Westchester, L.P.

[Docket No. ER04-1013-001]

Take notice that on August 13, 2004, Wheelabrator Westchester, L.P., (Westchester) tendered for filing an amendment to its July 13 and 14, 2004 filing Docket No. ER04-1013-000.

Comment Date: 5 p.m. Eastern Time on September 3, 2004.

8. San Diego Gas & Electric Company

[Docket No. ER04-1048-001]

Take notice that on August 13, 2004, San Diego Gas & Electric Company (SDG&E) tendered for filing a supplement to its July 28, 2004 filing in Docket No. ER04-1048-000 of Service Agreement No. 19 to its FERC Electric Tariff, First Revised Volume No. 6. Service Agreement No. 19. SDG&E states that the supplement is Appendix B to Service Agreement No. 19, which comprises five non-critical Energy Infrastructure Information interconnection figures.

SDG&E states that copies of the filing have been served on the San Diego County Water Authority, on the California Independent System Operator Corporation and on the California Public Utilities Commission.

Comment Date: 5 p.m. Eastern Time on September 3, 2004.

9. Avista Corporation

[Docket No. ER04-1076-001]

Take notice that on August 12, 2004, Avista Corporation submitted a Certificate of Concurrence in lieu of filing, to the July 30, 2004 filing by PacifiCorp regarding Annual Methods and Procedures for Operating Year 2004-05 amending the 1997 Pacific Northwest Coordination Agreement, as amended by Amendatory Agreement No. 1.

Comment Date: 5 p.m. Eastern Time on September 2, 2004.

10. Conectiv Energy Supply, Inc.

[Docket No. ER04-1125-000]

Take notice that, on August 13, 2004, Conectiv Energy Supply, Inc. (CESI) filed as a Service Agreement to its Market Based Rate Tariff a contract under which CESI provides full requirements service to a portion of Delmarva Power & Light Company's retail residential load under the Maryland Standard Offer Service program.

CESI states that the filing was served on the Maryland Public Service Commission.

Comment Date: 5 p.m. Eastern Time on September 3, 2004.

11. San Diego Gas & Electric Company

[Docket No. ER04-1126-000]

Take notice that on August 13, 2004, San Diego Gas & Electric Company (SDG&E) tendered for filing its Annual Transmission Formula Rate Change filing.

SDG&E states that copies of the filing were served on the California Public Utilities Commission, the California Independent System Operator Pacific Gas & Electric Company, Southern California Edison Company, and other participating transmission owners that have transferred operational control over their transmission facilities and entitlements to the California Independent System Operator, and all other parties on the service lit in Docket No. ER03-601-000.

Comment Date: 5 p.m. Eastern Time on September 3, 2004.

12. PJM Interconnection, L.L.C.

[Docket No. ER04-1127-000]

Take notice that on August 13, 2004, PJM Interconnection, L.L.C. (PJM), submitted for filing Original Service Agreement No. 1127 under PJM's FERC Electric Tariff Sixth Revised Volume No. 1, an executed interconnection service agreement among PJM, Armstrong Energy Limited Partnership, L.L.P., and Monongahela Power Company, The Potomac Edison Company, and West Penn Power Company, all doing business as Allegheny Power. PJM also submitted a notice of cancellation of an interim interconnection service agreement that has been superseded. PJM requests an effective date of July 15, 2004.

PJM states that copies of this filing were served upon the parties to the agreement and the state regulatory commissions within the PJM region.

Comment Date: 5 p.m. Eastern Time on September 3, 2004.

13. Southwest Power Pool, Inc.

[Docket No. ER04-1128-000]

Take notice that on August 13, 2004, Southwest Power Pool, Inc. (SPP) submitted for filing Service Agreement No. 1043 under SPP's FERC Electric Tariff Fourth Revised Volume No. 1, an executed service agreement for Network Integration Transmission Service and an executed Network Operating Agreement with Southwestern Public Service Company (Southwestern). SPP requests an effective date of July 15, 2004.

SPP states that Southwestern was served with a copy of this filing.

Comment Date: 5 p.m. Eastern Time on September 3, 2004.

14. Kentucky Utilities Company

[Docket No. ER04-1129-000]

Take notice that on August 13, 2004, Kentucky Utilities (KU) a subsidiary of LG&E Energy LLC, tendered for filing Original Sheet Nos. 8, 9 and 10 to KU's Rate Schedule No. 310, an amendment to the contract between KU and the City of Bardstown, Kentucky.

Comment Date: 5 p.m. Eastern Time on September 3, 2004.

15. Avista Corporation

[Docket No. ER04-1130-000]

Take notice that on August 13, 2004, Kentucky Utilities (KU), a subsidiary of LG&E Energy LLC, tendered for filing Original Sheet No. 8 to KU's Rate Schedule No. 300, an amendment to the contract between KU and the City of Owensboro, Kentucky.

Comment Date: 5 p.m. Eastern Time on September 3, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please e-mail FERCOnlineSupport@ferc.gov, or call (866) 208-3676 (toll free). For TTY, call (202) 502-8659.

Linda Mitry,
Acting Secretary.

[FR Doc. E4-1941 Filed 8-25-04; 8:45 am]

BILLING CODE 6717-01-P